DEPARTMENT OF HEALTH AND HUMAN SERVICES

Meeting of the Tick-Borne Disease Working Group

AGENCY: Office of the Assistant Secretary for Health, Office of the Secretary, Department of Health and Human Services.

ACTION: Notice.

SUMMARY: As required by the Federal Advisory Committee Act, the Department of Health and Human Services (HHS) is hereby giving notice that the Tick-Borne Disease Working Group (TBDWG) will hold a meeting. The meeting will be open to the public. For this meeting, the TBDWG will be discussing and voting on recommendations for the 2020 TBDWG Report to the HHS Secretary and Congress. Most of the recommendations the TBDWG will consider are from the reports of eight TBDWG subcommittees, which were created to examine critical topic areas related to tick-borne diseases.

Additionally, the TBDWG created the Federal Inventory Subcommittee and Public Comment Subcommittee. The Federal Inventory Subcommittee will present an analysis of tick-borne disease research and funding within federal agencies. The Public Comment subcommittee will provide an update on key themes of the written comments to the TBDWG.

The 2020 report will address ongoing tick-borne disease research, including research related to causes, prevention, treatment, surveillance, diagnosis, diagnostics, duration of illness, and intervention for individuals with tick-borne diseases; advances made pursuant to such research; federal activities related to tick-borne diseases; and gaps in tick-borne disease research.

DATES: The meeting will be held on March 3-4, 2020, from 9:00 a.m. to 5:00 p.m. ET (times are tentative and subject to change). The confirmed times and agenda items for the meeting will be posted on the website for the TBDWG at https://www.hhs.gov/ash/advisory-committees/tickbornedisease/meetings/2020-3-3/index.html when this information becomes available.

ADDRESSES: The meeting will be held at The College of Physicians of Philadelphia, 19 S 22nd St. Philadelphia, PA 19103. Members of the public may also attend the meeting via webcast. Instructions for attending via webcast will be posted about one week prior to the meeting at https://www.hhs.gov/ash/advisory-committees/tickbornedisease/meetings/2020-3-3/index.html.

FOR FURTHER INFORMATION CONTACT: James Berger, Designated Federal Officer for the TBDWG; Office of Infectious Disease and HIV/AIDS Policy, Office of the Assistant Secretary for Health, Department of Health and Human Services, Mary E. Switzer Building, 330 C Street SW, Suite L600, Washington, DC 20024. Email: tickbornedisease@hhs.gov; Phone: 202-795-7608.

SUPPLEMENTARY INFORMATION: In-person attendance at the meeting is limited to space available; therefore, preregistration for public members is advisable and can be accomplished by registering at https://www.eventbrite.com/e/tick-borne-disease-working-group-meeting-march-3-4-2020-meeting-12-tickets-90354618095. On the day of the meeting, seating will be provided first to persons who have preregistered. People who have not preregistered will be accommodated on a first come, first served basis if additional seats are still available 10 minutes before the meeting starts.

The public will have an opportunity to present their views orally to the TBDWG during the meeting's public comment session or by submitting a written public comment. Comments should be pertinent to the meeting discussion. Persons who wish to provide verbal or written public comment should review instructions at https://www.hhs.gov/ash/advisory-committees/tickbornedisease/meetings/2020-3-3/index.html and respond by midnight Thursday, February 20, 2020, ET. Verbal comments will be limited to three minutes each to accommodate as many speakers as possible during the two 30 minute sessions. Written public comments will be accessible to the public on the TBDWG web page prior to the meeting.

Background and Authority: The Tick-Borne Disease Working Group was established on August 10, 2017, in accordance with Section 2062 of the 21st Century Cures Act, and the Federal Advisory Committee Act, 5 U.S.C. App., as amended, to provide expertise and review federal efforts related to all tick-borne diseases, to help ensure interagency coordination and minimize overlap, and to examine research priorities. The TBDWG is required to submit a report to the HHS Secretary and Congress on their findings and any recommendations for the federal response to tick-borne disease every two years.

James Berger,
Designated Federal Officer, Tick-Borne Disease Working Group Office of Infectious Disease and HIV/AIDS Policy.

[FR Doc. 2020-03255 Filed 2-18-20; 8:45 am]

BILLING CODE 4150-28-P